LIBRARY OF CONGRESS

Copyright Office

37 CFR Part 201

[Docket No. RM 2010-1]

Section 111 and Interest Payments

AGENCY: Copyright Office, Library of Congress.

ACTION: Final rule: technical amendment.

SUMMARY: The Copyright Office makes a technical amendment to its rule on interest payments by cable operators.

DATES: This technical amendment is effective April 20, 2010.

FOR FURTHER INFORMATION CONTACT: Ben E. Golant, Assistant General Counsel or Tanya M. Sandros, Deputy General Counsel, Copyright GC/I&R, P.O. Box 70400, Washington, DC 20024. Telephone: (202) 707-8380. Telefax: (202) 707-8366.

SUPPLEMENTARY INFORMATION: Cable systems submitting statutory payments in an untimely fashion, or who have underpaid the amount due, must include the proper interest charge along with their royalties. See Assessment of Interest Regarding the Cable Compulsory License, 54 FR 14217, 14220-21 (Apr. 10, 1989). It has been the Office's longstanding practice that interest is not due when the amount has been less than or equal to five dollars. Section 201.17(i)(2)(iii) had codified this practice. However, this rule was inadvertently removed when the Office updated its electronic funds transfer requirements four years ago. Prior to the adoption of these regulations, Section 201.17(i)(2)(iii) read as follows, “Interest is not required to be paid on any royalty underpayment or late payment from a particular accounting period if the interest charge is less than or equal to five dollars.” To correct this error we are amending Section 201.17(i)(4) to restore this language on the five dollar threshold.

List of Subjects in 37 CFR Part 201

Copyright, General provisions.

Final Rule

In consideration of the foregoing, part 201 of 37 CFR chapter II is amended as follows:

PART 201—GENERAL PROVISIONS

1.The authority citation for part 201 continues to read as follows:

Authority: 17 U.S.C. 702.

§ 201.17 [Amended]

2. Amend § 201.17(i)(4) by adding “Interest is not required to be paid on any royalty underpayment or late payment from a particular accounting period if the interest charge is less than or equal to five dollars.” after “then the accrual period shall end on the date of the actual receipt by the Copyright Office.”

Dated: April 14, 2010
Tanya Sandros,
Deputy General Counsel,
U.S. Copyright Office

[FR Doc. 2010-8970 Filed 4-19-10; 8:45 am]

BILLING CODE 1410-30-S